DEPARTMENT OF TRANSPORTATION

Federal Aviation Administration

Notice of Intent To Rule on a Land Release Request at Elkins, Randolph County Regional Airport, Elkins, WV

AGENCY: Federal Aviation Administration (FAA) DOT.

ACTION: Notice and request for comment.

SUMMARY: The FAA is requesting public comment on the Elkins, Randolph County Regional Airport Authority's proposal to change 2.03 acres of airport property at Elkins, Randolph County Regional Airport, Elkins, West Virginia from aeronautical to non-aeronautical use and to enter into a long term non-aeronautical lease concerning the subject property.

In accordance with federal regulations this notice is required to be published in the Federal Register 30 days before the FAA can approve of this proposal and grant the land release request.

DATES: Comments must be received on or before July 24, 2017.

ADDRESSES: Comments on this application may be mailed or delivered to the following address: Nils A. Heinke, President, Elkins, Randolph County Regional Airport, 400 Airport Road, Elkins, West Virginia 26241, 304-636-2726.

And at the FAA Beckley Airports Field Office:, Matthew DiGiulian, Manager, Beckley Airports Field Office, 176 Airport Circle, Room 101, Beaver, West Virginia, (304) 252-6216.

FOR FURTHER INFORMATION CONTACT: Connie Boley-Lilly, Program Specialist, Beckley Airports Field Office, location listed above.

The request for change in use of on-airport property may be reviewed in person at this same location.

SUPPLEMENTARY INFORMATION: The following is a brief overview of the request:

The Elkins, Randolph County Regional Airport Authority, requests to change the use of 2.03 acres of on-airport property from aeronautical to non-aeronautical use and to enter into a long term non-aeronautical lease concerning this property. No land shall be sold as part of this land release request. The property is situated on the southeast corner of the airport. The Emerson Phares Building is an 80′ x 146′ brick and mortar building situated on 2.03 acres. This building was built in 1988 for the purpose of housing an FAA Flight Service Station. It is no longer needed by the FAA for that purpose. The release is being requested in order to re-classify the building as non-aeronautical use for the purpose of entering into a long term lease agreement with the Randolph County Commission. The lease term will be for a minimum of 30 years to utilize the building as a 911 Emergency Services Communications Center. The release of the property to facilitate the reclassification of the building will result in a direct benefit to the Airport Authority which will be realized in the form of monetary gain from the collection of rental/lease fees. The 2.03 acre area requested to be designated as non-aeronautical is unable to be utilized for aviation purposes because it is located outside the airport perimeter fence, and airside operations area, and is inaccessible by aircraft. The subject acreage is currently being used as rental property and once was occupied by an FAA Flight Service Station. The purpose of this request is to permanently change the use of the property given there is no potential for future aviation use, as demonstrated by the Airport Layout Plan. Subsequent to the implementation of the proposed change in use, rents received by the airport from this property must be used in accordance with FAA's Policy and Procedures Concerning the Use of Airport Revenue, published in the Federal Register on February 16, 1999.

Any person may inspect the request by appointment at the FAA office address listed above. Interested persons are invited to comment. All comments will be considered by the FAA to the extent practicable.

Issued in Beaver, West Virginia June 9, 2017.
Matthew DiGiulian,
Manager, Beckley Airports Field Office.

[FR Doc. 2017-13181 Filed 6-22-17; 8:45 am]

BILLING CODE 4910-13-P